CONSUMER PRODUCT SAFETY COMMISSION

[Docket No. CPSC-2023-0042]

Draft CPSC Scientific Integrity Policy

AGENCY: Consumer Product Safety Commission.

ACTION: Notice of availability and request for comment.

SUMMARY: The Consumer Product Safety Commission (Commission or CPSC) is announcing the availability of a proposed Scientific Integrity Policy. This policy is provided in response to the Presidential Memorandum on Restoring Trust in Government Through Scientific Integrity and Evidence-Based Policymaking, to ensure that Agency stakeholders are given an opportunity to comment on this policy. Scientific and technical work constitute the foundation upon which the CPSC executes the agency's mission to protect the public against unreasonable risks of injury associated with the use of consumer products. CPSC aims to carry out the agency's mission with integrity, because both policy makers and the public rely upon the work done at the CPSC to ensure the protection of consumers from potential hazards associated with consumer products.

DATES: Submit comments by December 4, 2023.

ADDRESSES: You can submit comments, identified by Docket No. CPSC-2023-0042, by any of the following methods:

Electronic Submissions: Submit electronic comments to the Federal eRulemaking Portal at: https://www.regulations.gov. Follow the instructions for submitting comments. CPSC does not accept comments submitted via email, except as described below. CPSC encourages you to submit electronic comments using the Federal eRulemaking Portal.

Mail/Hand Delivery/Courier/Confidential Written Submissions: Submit comments by mail, hand delivery, or courier to: Office of the Secretary, Consumer Product Safety Commission, 4330 East-West Highway, Bethesda, MD 20814; telephone: (301) 504-7479. If you wish to submit confidential business information, trade secret information, or other sensitive or protected information that you do not want available to the public, you may submit such comments by mail, hand delivery, courier, or you may email them to: cpsc-os@cpsc.gov.

Instructions: All submissions must include the agency name and docket number. CPSC may post all comments without change, including any personal identifiers, contact information, or other personal information provided to: https://www.regulations.gov. Do not submit to this website: confidential business information, trade secret information, or other sensitive or protected information that you do not want to be available to the public. If you wish to submit such information, please submit it according to the instructions for mail/hand delivery/courier/confidential written submissions.

Docket: For access to the docket to review supplemental information, including comments received, regarding the draft policy, go to https://www.regulations.gov, and insert the docket number, CPSC-2023-0042, into the “search” box, and follow the prompts. The proposed supplemental guidance is available under “Supporting and Related Material.” It is also available at https://www.regulations.gov/document/CPSC-2023-0042-0001 and from the Commission's Office of the Secretary.

FOR FURTHER INFORMATION CONTACT: Mary Kelleher, Scientific Integrity Official, Associate Executive Director for Health Sciences, U.S. Consumer Product Safety Commission, 5 Research Place, Rockville, MD 20850; telephone: (240) 429-4894 email: mkelleher@cpsc.gov.

SUPPLEMENTARY INFORMATION:

A. Background

The proposed draft CPSC Scientific Integrity Policy builds upon the current Statement of Principles: Integrity of the U.S. Consumer Product Safety Commission Staff's Scientific and Technical Work ¹ and follows the National Science and Technology Council Framework for Federal Scientific Integrity Policy and Practice.² In the draft policy, staff recommends facilitating the free flow of scientific information, protecting against retaliation, and provisions prohibiting both improper interference and inappropriate suppression or delay of scientific findings. The draft policy further establishes procedures for reporting and handling allegations of scientific integrity violations, including those involving alleged political interference.³

¹ https://www.cpsc.gov/About-CPSC/Policies-Statements-and-Directives/Statement-of-Principles-----------Integrity-of-the-U-S-Consumer-Product-Safety-Commission-Staffs-Scientific-and-Technical-Work.

² https://www.whitehouse.gov/wp-content/uploads/2023/01/01-2023-Framework-for-Federal-Scientific-Integrity-Policy-and-Practice.pdf.

³ On September 27, 2023, the Commission voted 4-0 to approve publication of this notice.

B. Request for Comments

The Commission invites comments on the proposed policy document, which can be found at https://www.regulations.gov/document/CPSC-2023-0042-0001.

The CPSC will consider all timely comments before finalizing the policy. Comments should be submitted by December 4, 2023. Information on how to submit comments can be found in the ADDRESSES section of this notice.

Alberta E. Mills,
Secretary, Consumer Product Safety Commission.

[FR Doc. 2023-22110 Filed 10-4-23; 8:45 am]

BILLING CODE 6355-01-P